EXPORT-IMPORT BANK

[Document Number: 2019-6019]

Review of Proposed Guidelines for Assessing Additionality Related to Providing EXIM's Support for Medium and Long Term Export Transactions

The Export-Import Bank of the United States (EXIM) is seeking comments on proposed guidelines for determining Additionality on requests the Bank receives to support export transactions with repayment amortizing over the medium or long term. The proposed guidelines can be viewed at: https://www.exim.gov/Additionality.guidance. Interested parties may submit comments to additionality.review@exim.gov or by mail to 811 Vermont Avenue NW, Room 1257, within 30 days of the date this notice appears in the Federal Register.

James C. Cruse,
Senior Vice President, Office of Policy and International Relations.

[FR Doc. 2019-19345 Filed 9-6-19; 8:45 am]

BILLING CODE 6690-01-P